DEPARTMENT OF COMMERCE

National Oceanic and Atmospheric Administration

Survey To Develop Estimates of Marine-Related Economic Activity in the United States; Withdrawal of Notice for Proposed Information Collection; Comment Request

AGENCY: National Oceanic and Atmospheric Administration, Commerce.

ACTION: Notice; withdrawal.

SUMMARY: This notice withdraws the Department of Commerce's May 22, 2019, notice for the Survey to Develop Estimates of Marine-Related Economic Activity in the United States. The Department of Commerce is withdrawing this notice requesting comments published in the May 22, 2019 issue of the Federal Register entitled “Survey to Develop Estimates of Marine-Related Economic Activity in the United States”.

DATES: Applicable May 23, 2019, the document published at 84 FR 23525 on May 22, 2019, is withdrawn.

FOR FURTHER INFORMATION CONTACT: Jennifer Jessup, Director of Policy and Governance, PRA Clearance Officer, Office of Policy, and Governance, Office of the Chief Information Officer, Office of the Secretary, Department of Commerce, Room 6616, 14th and Constitution Avenue NW, Washington, DC 20230 (or via the internet at pracomments@doc.gov).

SUPPLEMENTARY INFORMATION: The Department of Commerce wishes to inform the public it is withdrawing a 60-day public notice in the Federal Register entitled, “Survey to Develop Estimates of Marine-Related Economic Activity in the United States” (84 FR 23525) published on May 22, 2019. This notice was published in error and is being withdrawn immediately for public comment.

Sheleen Dumas,
Departmental Lead PRA Officer, Office of the Chief Information Officer, Commerce Department.

[FR Doc. 2019-11187 Filed 5-28-19; 8:45 am]

BILLING CODE 3510-08-P